DEPARTMENT OF HEALTH AND HUMAN SERVICES

Statement of Organization, Functions, and Delegations of Authority; Administration for Community Living

AGENCY: Department of Health and Human Services.

ACTION: Notice.

SUMMARY: The Administration for Community Living (ACL) was created in order to achieve several important objectives: to reduce the fragmentation that currently exists in federal programs addressing the community living service and support needs of both the aging and disability populations; to enhance access to quality health care and long-term services and supports for older adults and people with disabilities; to promote consistency in community living policy across other areas of the federal government; and to complement the community infrastructure, as supported by both Medicaid and other federal programs, in order to better respond to the full spectrum of needs of seniors and persons with disabilities. Public Law 113-128, the Workforce Innovation and Opportunity Act (WIOA), furthers these objectives by transferring three groups of programs—the Independent Living (IL) Programs, the National Institute on Disability and Rehabilitation Research (now titled the National Institute on Disability, Independent Living, and Rehabilitation Research), and the Assistive Technology (AT) Act programs—from the Department of Education's Office of Special Education and Rehabilitative Services (OSERS) to the HHS Administration for Community Living (ACL). This reorganization incorporates these programs into ACL's structure with the IL programs and the AT Act section 5 programs included under the newly established Administration on Disabilities; the National Institute on Disability, Independent Living, and Rehabilitation Research (NIDILRR) reporting directly to the ACL Administrator; and the AT Act section 4 programs located in the Office of Consumer Access and Self-Determination within the renamed Center for Integrated Programs (formally the Center for Consumer Access and Self-Determination).

FOR FURTHER INFORMATION CONTACT: Christine Phillips, Administration for Community Living, 1 Massachusetts Avenue NW., Washington, DC 20201, 202-357-3547.

SUPPLEMENTARY INFORMATION: This notice amends part B of the Statement of Organization, Functions, and Delegations of Authority of the Department of Health and Human Services (HHS), Administration for Community Living, as last amended at 79 FR 62142-62152, dated October 16, 2014, as follows:

I. Delete Part B, “The Administration for Community Living”; in its entirety and replace with the following:

B.00 Mission

B.10 Organization

B.20 Functions

B.00 Mission. The Administration for Community Living's (ACL) mission is to maximize the independence, well-being, and health of older adults, people with disabilities across the lifespan, and their families and caregivers. ACL provides national leadership and direction to plan, manage, develop, and raise awareness of comprehensive and coordinated systems of long-term services and supports that enable older Americans and individuals with disabilities, including intellectual, developmental, physical, and other disabilities, to maintain their health and independence in their homes and communities. ACL programs support strong state, tribal, and local community networks designed to respond to the needs of persons with disabilities, older Americans, and their families through advocacy, research, systems change and capacity building to ensure access to needed community services, individualized supports, and other forms of assistance that promote self-determination, independence, productivity, and integration and inclusion in all facets of community life.

ACL advises the Secretary, departmental components and other federal departments and agencies on the development and implementation of policies to improve access to community living services and supports and enhance opportunities for persons with disabilities and older Americans, while retaining discrete policy and programmatic operations that respond to the unique needs of these populations. ACL's visibility within the Department of Health and Human Services and with other federal agencies helps ensure that federal policies and programs allow all individuals across the lifespan to live with respect and dignity as full members of their communities.

B.10 Organization. ACL is an operating division of the Department of Health and Human Services. ACL is headed by an Administrator, who reports directly to the Secretary. The Administrator is also the Assistant Secretary for Aging. In addition to the Administrator, the ACL consists of the Principal Deputy Administrator who also reports to the Secretary, serving as the senior disability policy advisor to the Secretary; and staff and program offices. ACL is organized as follows:

Office of the Administrator (BA)

Administration on Aging (BB)

Administration on Disabilities (BC)

Center for Integrated Programs (BD)

Center for Management and Budget (BE)

Center for Policy and Evaluation (BF)

National Institute on Disability, Independent Living, and Rehabilitation Research (BG)

B.20 Functions. ACL is the principal agency in the department designated to lead aging and disability programs. More specifically, the provisions of the Older Americans Act (OAA) of 1965 are carried out by its subcomponent, the Administration on Aging; the provisions of the Developmental Disabilities Assistance and Bill of Rights Act (DD Act) of 2000 and Title VII of the Rehabilitation Act of 1973 are carried out by its subcomponent, the Administration on Disabilities; and the provisions of Title II of the Rehabilitation Act of 1973 are carried out by its subcomponent, the Nation lInstitute on Disability, Independent Living, and Rehabilitation Research. ACL also administers programs authorized under Title III and Title XXIX of the Public Health Service Act (PHSA), section 262 and 292 of the Help America Vote Act (HAVA), section 119 of the Medicare Improvements for Patients and Providers Act (MIPPA) of 2008, section 6021(d) of the Deficit Reduction Act (DRA) of 2005, section 4360 of the Omnibus Budget Reconciliation Act (OBRA) of 1990, the Elder Justice Act (EJA) of 2010 (Subtitle B of Title XX of the Social Security Act), and the Assistive Technology Act of 1998. In addition, ACL provides continuing support for the administration of the President's Committee for People with Intellectual Disabilities pursuant to E.O. 13652.

Specifically, ACL develops, recommends and issues regulations, policies, procedures, standards and guidelines to provide direction for the programs it administers. Approves or disapproves plans and funding applications for national programs providing community-based long-term services and supports. Administers programs for training, research, demonstration, evaluation and information dissemination. Administers programs related to advocacy, systems change and capacity building. Administers national centers for service development and provides technical assistance to states, tribal organizations, local communities and service providers. Serves as the lead federal agency for adult protective services.

Assists the Secretary in all matters pertaining to opportunities and challenges of persons with disabilities, older Americans, and Americans of all ages about their current and potential future need for information and access to long-term services and supports. Advocates for the needs of these constituencies in program planning and policy development within the department and in other federal agencies. Advises the Secretary, departmental components and other federal organizations on the characteristics, circumstances and needs of these populations and develops policies, plans and programs designed to promote their welfare.

The functions of the organizational units of ACL are described in detail in the succeeding chapters.

A. Office of the Administrator (BA):

BA.00 Mission

BA.10 Organization

BA.20 Functions

BA.00 Mission. The Office of the Administrator provides executive direction, leadership, and guidance for ACL programs, and serves as the focal point for the development, coordination and administration of those programs nationwide. The office advises the Secretary on issues affecting seniors and persons with disabilities.

BA.10 Organization. The Office of the Administrator is headed by the Administrator, who reports directly to the Secretary. The Office of the Administrator includes the Principal Deputy Administrator, who also serves as the senior advisor to the Secretary on HHS activities relating to disabilities, and the following components:

Immediate Office of the Administrator (BAA)

Office of External Affairs (BAB)

Office of Regional Operations (BAC)

Regional Support Centers (BAC1-BAC10)

BA.20 Functions.

1. Immediate Office of the Administrator (BAA). The Immediate Office of the Administrator provides executive supervision to the major components of ACL. The Administrator and Principal Deputy both serve as members of the Secretary's senior leadership team, ensuring that federal policies and programs support the goal of enabling all individuals to live with respect and dignity as fully participating members of their communities.

Specifically, the Immediate Office of the Administrator sets national policies, establishes national priorities, ensures policy consistency, and directs plans and programs conducted by ACL. Advises the Secretary, HHS operating divisions, and other federal agencies on the characteristics, circumstances, and needs of persons with disabilities, older Americans, and their families and on policies, plans and programs designed to promote their welfare.

Coordinates the development of legislative proposals, testimony, background statements, and other policy documents in activities related to legislation. In coordination with the HHS Office of the Assistant Secretary for Legislation, analyzes proposed and enacted legislation related directly or indirectly to older people and persons with disabilities, including legislation directly affecting ACL programs.

In collaboration with other federal agencies, develops and implements interagency agreements to advance the concerns and interests of persons with disabilities, older adults, and families of such individuals. Provides liaison to federal advisory committees. Works with national organizations, professional societies, and academic organizations to identify mutual interests and plan voluntary and funded approaches to enhance opportunities for community living.

Receives, assesses, and controls incoming correspondence and makes assignments to the appropriate ACL component(s) for response and action; provides assistance and advice to ACL staff on the development of responses to correspondence; and tracks development of periodic reports and facilitates departmental clearance. Maintains official copies of all policy and information issuances, ensuring adherence to ethics requirements as well as requirements for records management and disposition and the Freedom of Information Act.

2. Office of External Affairs (BAB). The Office of External Affairs (OEA) supports the Immediate Office of the Administrator in the effective communication of ACL policies, goals, and objectives. Develops and executes strategy for interaction with the news media. Initiates media outreach activities; responds to all media inquiries concerning ACL programs and related issues; develops communications products such as news releases, feature articles and opinion-editorial pieces on ACL programs, initiatives, and issues affecting ACL stakeholders

Manages preparation and clearance of speeches and official statements on ACL programs. Coordinates ACL's participation in conferences and other events intended to educate and inform ACL stakeholders about ACL programs and federal initiatives that affect older Americans and people with disabilities.

Develops and implements public education activities to support program objectives. Develops and distributes communications products such as brochures, fact sheets, and conference exhibits about issues affecting older people and people with disabilities and programs that support them.

Coordinates with other federal agencies, regional offices and partners in the aging and disability networks to develop and implement communications campaigns that advance mutual goals. Coordinates ceremonies and celebrations. Manages the content of ACL Web sites and social media platforms. Implements the National Clearinghouse for Long-Term Care Information authorized under section 6021(d) of the DRA of 2005.

3. Office of Regional Operations (BAC). The Office of Regional Operations includes a coordinating central office liaison and Regional Support Centers around the country. ACL has five Regional Administrators (RA), who each oversee two regions.

The Regional Support Centers (BAC1-BAC10) serve as the focal point for the administration and coordination of Older Americans Act programs within their designated HHS regions, and coordinate with ACL program offices as needed on other ACL programs that support state and local efforts to improve community living for older adults and persons with disabilities (for example, Regional Support Center staff serve as liaisons between State Offices on Aging and other ACL divisions). Represent the Administrator within the region, providing information for, and helping to advance the development of, national programs serving older adults and persons with disabilities. Serve as advocate for ACL stakeholders to other federal agencies in their geographic jurisdictions; advise, consult and cooperate with each federal agency proposing or administering programs or services that affect ACL stakeholders; coordinate and assist public (including federal, state, tribal and local agencies) and private organization in the planning and development of comprehensive and coordinated services; and conduct education of officials and the broader community to ensure understanding of the need for community-based services and supports for older adults and people with disabilities.

Monitor, assist and evaluate state agencies and tribal organizations administering programs supported under the OAA and other authorizing legislation as directed. Participate in the review of state plans and recommend approval or disapproval. Participate in the review of applications for tribal programs and recommend approval or disapproval. Review grantee financial and program reports and provide technical assistance on fiscal operations. Oversee disaster assistance and reimbursement activities pursuant to section 310 of the OAA.

Advise the Administrator on problems and progress of programs; evaluate the effectiveness of programs and services in the regions and recommend changes that would improve program operations and enhance effectiveness; and provide guidance to agencies and grantees in applications of policy to specific operational issues requiring resolution. Facilitate interagency cooperation at the federal, regional, state and tribal levels to enhance resources and assistance available to older adults and persons with disabilities. Disseminate and provide technical assistance regarding program guidelines and developments to state agencies, tribal organizations, and local community service providers.

B. Administration on Aging (BB):

BB.00 Mission

BB.10 Organization

BB.20 Functions

BB.00 Mission. The Administration on Aging (AoA) carries out programs operated under the OAA, section 398 and Title III of the PHSA, and the EJA (Subtitle B of Title XX of the Social Security Act), including, but not limited to, those concerning the Elder Justice Coordinating Council and Adult Protective Services. The Administration on Aging helps elderly individuals maintain their dignity and independence in their homes and communities through comprehensive, coordinated, and cost-effective systems of long-term services and supports and livable communities across the United States.

BB.10 Organization. The Administration on Aging is headed by the Assistant Secretary for Aging, who is also the ACL Administrator. The Deputy Assistant Secretary for Aging supports the Assistant Secretary in overseeing the Administration on Aging. The Administration on Aging includes the following components:

Office of the Assistant Secretary for Aging (BBA)

Office of Supportive and Caregiver Services (BBB)

Office of Nutrition and Health Promotion Programs (BBC)

Office of Elder Justice and Adult Protective Services (BBD)

Office of American Indian, Alaskan Native, and Native Hawaiian Programs (BBE)

Office of Long-Term Care Ombudsman Programs (BBF)

BF.20 Functions.

1. Office of the Assistant Secretary for Aging (BBA). The Office of the Assistant Secretary for Aging advises and supports the Administrator, the Secretary, and other elements of the department in serving as the visible and effective advocate for older people within the federal government. Provides leadership and expertise on program development, advocacy and initiatives affecting seniors and their caregivers. Plans and directs grant programs designed to provide planning, coordination and services to older Americans as authorized under the OAA and other legislation. Actively partners with other ACL subcomponents to develop coordinated programs and policies that jointly address the common needs of older adults and people with disabilities.

Performs functions under Title II of the OAA related to consultation with other federal agencies and the provision of information about aging services, programs and policies in order to enhance coordination and delivery. Supports the Administrator in implementing section 203(1) of the OAA by advising and coordinating with the head of each department and agency and instrumentality of the federal government proposing or administering programs or services substantially related to the objectives of the OAA. Oversees the consultation process by which agency heads must consult with AoA before establishing programs or services related to the OAA. Plans and implements the process for the collaboration with AoA and all federal agencies executing programs and services related to the OAA.

Consults with and provides technical assistance to and education for State and Area Agencies on Aging, tribal grantees and local community service providers in the development of plans, goals, and system development activities. Ensures that statutory requirements, regulations, policies, and instructions are implemented for mandatory grant programs under Titles III, VI and VII of the OAA, and for the discretionary grant programs under Title II and Title IV of the OAA, as well as section 398 and Title III of the PHSA and the EJA.

Provides oversight and leadership, technical assistance, and guidance to Regional Support Centers, states, Area Agencies on Aging and community service providers. Provides technical guidance to the Regional Support Centers as they implement the national programs of the OAA and ensures that clear and consistent guidance is given on program and policy directives. Issues substantive operating procedures to guide central office and regional staff in the conduct of their programmatic responsibilities.

At all levels, from national to the local service delivery level, develops methods and collaborations to articulate the problems and concerns of the elderly to organizations beyond the traditional network of agencies and works with these organizations to be more sensitive and responsive to age-related needs and issues. In coordination with the Office of External Affairs, develops strategies for increasing public awareness of the needs of older Americans and their families, and programs designed to address them.

2. Office of Supportive and Caregiver Services (BBB). The Office of Supportive and Caregiver Services serves as the focal point for the operation, administration, and assessment of the programs authorized under Titles III-B and III-E of the OAA and section 398 of the PHSA, as well as activities under Titles II and IV of the OAA that are designed to provide information and referral services to seniors and caregivers, and to support technical assistance, outreach, and information dissemination that are culturally and linguistically appropriate in order to meet the needs of diverse populations of older individuals. In addition, the Office performs the functions under Title II of the OAA related to consultation with other federal agencies and the provision of information about supportive and caregiver services in order to enhance service coordination and delivery.

Implements Titles III-B and III-E of the OAA through the development of regulations, policies and guidance governing the development and enhancement by State and Area Agencies on Aging of comprehensive and coordinated systems of home- and community-based supportive and caregiver services. This includes implementing and enhancing systems for home- and community-based supportive services, the operation of multi-purpose senior centers, and caregiver support and assistance services.

In coordination with the Office of Nutrition and Health Promotion Programs, provides guidance regarding state plan processing and approval, the process and criteria for approval of states' Intrastate Funding Formulas for the allocation and targeting of resources within states, and implementation of the Interstate Funding Formula for distribution of Title III-B and III-E funds among states. Through the analysis of state plans, evaluation findings and other relevant material, identifies potential program and management issues and develops recommendations on possible solutions.

Fosters, oversees, and ensures accountability for the implementation of programs by states and Area Agencies on Aging through guidance and direction to regional staff regarding program reviews and system development and enhancements. Designs and provides training and technical assistance for program compliance, effectiveness, and enhancement. Provides technical and subject matter expertise targeted at enhancing the capabilities of State and Area Agencies on Aging and local communities to improve service delivery to older people.

Directs and assesses the development of state-administered home- and community-based long-term care systems providing supportive services for the elderly and caregivers. Initiates and encourages expansion of the capacities of home- and community-based supportive and caregiver services.

Implements programs under section 398 of the PHSA, as well as activities under Titles II and IV of the OAA, through the development of demonstrations designed to test the efficacy of new and innovative models in improving the delivery and effectiveness of community-based supportive services for seniors and caregivers. Plans and develops discretionary grant program announcements. Evaluates demonstration grant and contract proposals and recommends approval/disapproval. Monitors progress, gives technical guidance, and evaluates program performance.

Promotes the coordination of innovation and demonstration activities with other national, field and local programs related to aging. Develops standards and identifies successful service and systems development strategies and best practice models for use by the aging network. Provides technical assistance to aging network partners in utilizing the findings from program demonstrations to inform policy and program development and enhance service delivery and coordination at the federal, state and local level.

3. Office of Nutrition and Health Promotion Programs (BBC). The Office of Nutrition and Health Promotion Programs serves as the focal point for the operation, administration, and assessment of the programs authorized under Titles III-C and III-D of the OAA and Title III of the PHSA, as well as activities under Titles II and IV of the OAA designed to promote healthy behaviors and improved health status for older people. In addition, the office performs the functions under Title II of the OAA related to consultation with other federal agencies and the provision of information about nutrition and preventive health services in order to enhance service coordination and delivery.

Implements Titles III-C and III-D of the OAA through the development of regulations, policies and guidance governing the development and enhancement by State and Area Agencies on Aging of comprehensive and coordinated systems of home- and community-based nutrition and preventive health services. Carries out the functions of the designated Nutrition Officer, who coordinates nutritional services under the OAA, develops the regulations and guidelines, and provides technical assistance regarding nutrition to State and Area Agencies on Aging, nutrition service providers, and other organizations. Serves as the liaison to the Department of Agriculture and other federal agencies and organizations related to nutrition policy and program issues.

In coordination with ACL's Office of Supportive and Caregiver Services, provides guidance regarding state plan processing and approval, the process and criteria for approval of states' Intrastate Funding Formulas for the allocation and targeting of resources within states, and implementation of the Interstate Funding Formula for distribution of Title III-C and III-D funds among states. Through the analysis of state plans, evaluation findings and other relevant material, identifies potential program and management issues and develops recommendations on possible solutions.

Fosters, oversees, and ensures accountability for the implementation of programs by states and Area Agencies on Aging through guidance and direction to regional staff regarding program reviews and system development and enhancements. Designs and provides training and technical assistance for program compliance, effectiveness, and enhancement. Provides technical and subject matter expertise targeted at enhancing the capabilities of State and Area Agencies on Aging and local communities to improve service delivery to older people.

Directs and assesses the development of State-administered home- and community-based long-term care systems providing nutrition and preventive health services for the elderly and caregivers. Initiates and encourages expansion of the capacities of home- and community-based nutrition and preventive health services to deliver comprehensive services to the elderly.

Implements programs under Title III of the PHSA, as well as other activities under Titles II and IV of the OAA, through the development of demonstrations designed to test the efficacy of new and innovative models in improving the delivery and effectiveness of community-based nutrition, health promotion, and evidenced-based disease prevention. Prepares the planning documents for and develops discretionary grant program announcements. Evaluates demonstration grant and contract proposals; and recommends approval/disapproval. Monitors progress, gives technical guidance to, and evaluates the performance of grantees and contractors.

Promotes the coordination of innovation and demonstration activities with other national, field and local programs related to aging. Develops standards and identifies successful service and systems development strategies and best practice models for use by the aging network. Provides technical assistance to aging network partners in utilizing the findings from program demonstrations to inform policy and program development and enhance service delivery and coordination at the federal, state and local level.

4. Office of Elder Justice and Adult Protective Services (BBD). The Office of Elder Justice and Adult Protective Services serves as the focal point for the operation, administration, and assessment of the elder abuse prevention, legal assistance development, and pension counseling programs under Titles II and VII of the OAA, and for Adult Protective Services and related activities carried out under the Elder Justice Act. The office also coordinates with the Office of the National Long-Term Care Ombudsman which oversees the Long-Term Care Ombudsman Program and the National Ombudsman Resource Center.

Reviews state plans to determine eligibility for funding under the OAA and recommends approval or disapproval. Implements Title VII in the field, in coordination with the National Long-Term Care Ombudsman, through the provision to Regional Support Centers of guidance and information, and the development and interpretation of Title VII program regulations and policy. Ensures the implementation of guidance and instructions concerning prevention of elder abuse, elder justice and legal assistance development programs. Provides guidance and leadership in the development of the pension counseling program and effective models for nationwide replication.

Fosters, coordinates, and ensures accountability for the implementation of Title VII by states through guidance and direction to regional staff regarding program reviews, and program and system development and enhancements. Designs and provides training and technical assistance for program compliance, effectiveness, and enhancement. Develops program plans and instructions for Regional Support Centers and State and Area Agencies on Aging to improve the Title VII protection and representational programs funded under the OAA.

Implements demonstration activities under Titles II and IV of the OAA and the EJA designed to test the efficacy of new and innovative models in improving the delivery and effectiveness of elder rights activities. Prepares the planning documents for and develops discretionary grant program announcements. Evaluates demonstration grant and contract proposals and recommends approval/disapproval. Monitors progress, gives technical guidance, and evaluates program performance.

Promotes the coordination of innovation and demonstration activities with other national, field and local programs related to aging. Develops standards and identifies successful service and systems development strategies and best practice models for use by the aging network. Provides technical assistance to aging network partners in utilizing the findings from program demonstrations to inform policy and program development and enhance service delivery and coordination at the federal, state and local level.

Provides federal leadership for the development and implementation of comprehensive Adult Protective Services systems in order to provide a coordinated and seamless response for helping adult victims of abuse and to prevent abuse before it happens. Develops national Adult Protective Services data systems and standards, and provides technical assistance to states on using and interfacing with the system. Develops model Adult Protective Services program standards that help states improve the quality and consistency of programs. Advances a coordinated federal research strategy to fill the gaps in knowledge and develop evidence-based interventions to prevent, identify and report, and respond to elder abuse, neglect and exploitation. Provides support for the Elder Justice Coordinating Council.

5. Office for American Indian, Alaskan Native, and Native Hawaiian Programs (BBE). The Office for American Indian, Alaskan Native, and Native Hawaiian Programs serves as advocate within the Department of Health and Human Services and with other departments and agencies of the federal government regarding all federal policies affecting older individuals who are Native Americans. Works with state, local and tribal governments providing leadership and coordination of activities, services and policies affecting American Indians, Alaskan Natives and Native Hawaiian elders. Promotes linkages among national Indian organizations, national aging organizations, and national provider organizations with the goal of enhancing the interests of and services to Native American elders. Recommends policies and priorities with respect to the development and operation of programs and activities relating to individuals who are older Native Americans. The office coordinates activities among other federal departments and agencies to ensure a continuum of improved services through memoranda of agreements or through other appropriate means of coordination.

Evaluates outreach under Title III and Title VI of the OAA and recommends necessary action to improve service delivery, outreach, and coordination between Title III and Title VI services. Encourages and assists with the provision of information to older Native Americans to ensure a continuum of services. Develops research plans, conducts and arranges for research in the field of Native American aging; collects, analyzes, and disseminates information related to problems experienced by older Native Americans, including information on health status of older individuals who are Native Americans, elder abuse, in-home care, and problems unique to Native Americans. Develops, implements, and oversees the uniform data collection procedures for tribal and Native Hawaiian Organizations and implements and oversees the consultation requirements of Title II as they apply to Native American issues.

Serves as the AoA focal point for the administration of the programs authorized under Title VI and the Native American Organization provisions of Title VII-B of the OAA, including administering grants, cooperative agreements and contracts. Coordinates with the Regional Support Centers to provide program guidance, policy direction, training, technical assistance, and monitoring of Title VI grantees. Oversees the development and operation of Resource Centers on Native American Elders under Title IV of the OAA, which gather information, perform research, provide for dissemination of results, and provide technical assistance and training to those who provide services to Native American elders. Arranges for and manages ongoing training and technical assistance for Title VI grantees. Coordinates additional training and technical assistance related to diversity and national minority aging organizations and coalitions with other projects managed by other components of the agency.

6. Office of Long-Term Care Ombudsman Programs (BBF). The Office of the Long-Term Care Ombudsman Programs carries out the functions established in section 201(d)(1) of the OAA, serving as the advocate for older Americans in the development and implementation of federal policies and laws that may affect the health, safety, welfare, or rights of residents of long-term care facilities.

Reviews federal legislation, regulations, and policies regarding long-term care ombudsman programs and makes recommendations to the Assistant Secretary for Aging. Coordinates the activities of ACL with other federal, state and local entities relating to long-term care ombudsman programs; prepares an annual report to Congress on the effectiveness of services provided by state long-term care ombudsman programs; and establishes standards for the training of state long-term care ombudsman staff.

Coordinates with the Office of Elder Justice and Adult Protective Services on the administration of the Long-Term Care Ombudsman Program and the National Ombudsman Resource Center to ensure alignment with agency initiatives related to elder rights and adult protective services. Makes recommendations to the Administrator regarding the operation of the National Ombudsman Resource Center, and the review and approval of the provisions in state plans submitted under section 307(a) of the OAA that relate to state long-term care ombudsman programs.

C. Administration on Disabilities (BC):

BC.00 Mission

BC.10 Organization

BC.20 Functions

BC.00 Mission. The Administration on Disabilities (AoD) advises the Secretary, through the Administrator and Principal Deputy Administrator for Community Living, on matters relating to services and supports for individuals with disabilities and their families, and serves as a focal point in the department to support and encourage the provision of quality services and supports, and implementation of program and policy that benefit people with disabilities and their families. The AoD supports states and communities in increasing the independence, productivity and community inclusion of individuals with disabilities; empowers individuals with disabilities to maximize opportunities for competitive integrated employment, economic self-sufficiency, independence and integration into society; promotes consumer control and self-advocacy; and ensures that the rights of individuals with disabilities are protected. Carries out programs operated under the DD Act, Title VII of the Rehabilitation Act, section 262 and 292 of the HAVA, section 5 of the Assistive Technology Act of 1998, and Title III of the PHSA.

BC.10 Organization. The Administration on Disabilities is headed by a Commissioner, who reports directly to the ACL Administrator, and a Deputy Commissioner who also serves as Director of Independent Living. In this dual role, the Deputy Commissioner/Director of Independent Living serves as a member of the ACL Administrator's senior leadership team and reports directly to the ACL Administrator in carrying out the functions of the Director of Independent Living consistent with Section 701A of the Rehabilitation Act, as amended. The AoD includes the following components:

Office of the Commissioner on Disabilities (BCA)

Administration on Intellectual and Developmental Disabilities (BCB)

Office of Program Support (BCB1)

Office of Innovation (BCB2)

President's Committee for People with Intellectual Disabilities (BCB2A)

Independent Living Administration (BCC)

BC.20 Functions.

1. Office of the Commissioner on Disabilities (BCA). The Office of the Commissioner on Disabilities (OCD) provides executive leadership and management strategies for all components of the Administration on Disabilities. The Commissioner and Deputy Commissioner/Director of Independent Living advise the ACL Administrator on issues related to services and supports, civil rights and other matters affecting individuals with disabilities and their families. Plans, coordinates and controls AoD policy, planning and management activities which include the development of legislative proposals, regulations and policy issuances for AoD.

Provides executive direction to AoD's components and establishes goals and objectives for AoD programs. Assists states, through the design and implementation of state plans for independent living, developmental disabilities, and protection and advocacy programs, in making optimal use of federal, state, and local resources that maximize the independence, productivity, economic self-sufficiency and community inclusion and integration of individuals with disabilities and their families.

In concert with other components of ACL as well as other public, private, and volunteer sector partners, develops and implements research, demonstration and evaluation strategies for discretionary funding of activities designed to improve and enrich the lives of individuals with disabilities. Serves as a resource in the development of policies and programs to reduce or eliminate barriers experienced by individuals with disabilities through the identification of promising practices and dissemination of information. Supports and encourages programs or services and manages initiatives, involving the private and voluntary sectors that benefit individuals with disabilities and their families.

Initiates, executes and supports the development of interagency, intergovernmental and public-private sector agreements, committees, task forces, commissions or joint-funding efforts as appropriate. Actively partners with other ACL subcomponents to develop coordinated programs and policies that jointly address the common needs of older adults and people with disabilities. In coordination with the Office of External Affairs, develops strategies for increasing public awareness of the needs of individuals with disabilities, their families, and programs designed to address them.

2. Administration on Intellectual and Developmental Disabilities (BCB). The Administration on Intellectual and Developmental Disabilities (AIDD) is responsible for the coordination, oversight, management and evaluation of programs authorized by the DD Act and activities authorized under section 5 of the AT Act and section 262 and 292 of the HAVA. AIDD includes two program offices, the Office of Program Support (OPS) and the Office of Innovation (OI).

OPS (BCB1) is responsible for the coordination, oversight, management and evaluation of the State Councils on Developmental Disabilities, the Developmental Disabilities Protection and Advocacy Systems, and the University Centers for Excellence in Developmental Disabilities grant programs as authorized by the DD Act. OPS is responsible for the development of procedures and performance standards that ensure compliance with the DD Act and that improve the outcomes of the programs in increasing the independence, productivity and community inclusion of persons with developmental disabilities. OPS conducts routine and special analyses of state plans of State Councils on Developmental Disabilities, statements of goals and objectives of state Protection and Advocacy systems, and five-year plans of the University Centers for Excellence in Developmental Disabilities, to ensure consistent application of AIDD program goals and objectives. Provides program development services, develops and initiates guidelines, policy issuances and actions with team participation by other components of AoD, ACL, HHS and other government agencies to fulfill the mission and goals of the DD Act, as amended.

OPS also administers Protection and Advocacy programs under section 292 of the HAVA and section 5 of the AT Act that help to ensure full participation in the electoral process for individuals with disabilities and to assist individuals with disabilities in the acquisition, utilization, or affordability of AT services or devices. Administers a training and technical assistance grant program under the HAVA that provides technical assistance to Protection and Advocacy systems in their mission to promote the full participation in the electoral process for individuals with the full range of disabilities, including registering to vote, casting vote, and accessing polling places.

OI (BCB2) is responsible for the coordination, oversight, management and evaluation of the Projects of National Significance program, including the Family Support and the Direct Support Workers grant programs as authorized by the DD Act. OI ensures the dissemination of grantee results, including project results and information produced by AD grantees, in coordination with the Independent Living Administration and the Office of the Commissioner on Disabilities. Manages cross-cutting research, demonstration and evaluation initiatives consistent with the purposes of the DD Act, with other components of ACL, HHS and other government agencies to promote and integrate the grant programs into cross-agency and cross-disability efforts. Coordinates information sharing and other activities related to national program trends and studies, reviews and analyzes other federal programs providing services applicable to persons with developmental disabilities for the purpose of integrating and coordinating program efforts. OI also oversees activities under section 262 of the HAVA that support state efforts to improve accessibility for individuals with the full range of disabilities to polling places and voting facilities.

OI also provides general staff support for the President's Committee for People with Intellectual Disabilities (BCB2A) as established by E.O. Coordinates all meetings, provides advice and assistance in the areas of intellectual disabilities as requested by the President or the Secretary, and prepares and issues an annual report concerning intellectual disabilities and additional reports or recommendations as appropriate.

3. Independent Living Administration (BCC). Established by section 701A of the Rehabilitation Act, the Independent Living Administration (ILA) aims to maximize the leadership, empowerment, independence, and productivity of individuals with disabilities while promoting the independent living philosophy of consumer control, self-help and self-advocacy, development of peer relationships and peer role models, and equal access for individuals with significant disabilities to all aspects of society. Administers grants to support independent living programs that offer financial assistance to provide expanded and improved independent living services. Develops and supports statewide networks of centers for independent living and improves working relationships among state independent living rehabilitation programs, centers for independent living, statewide Independent Living Councils (SILCs), Rehabilitation Act programs outside of Title VII, and other relevant federal and non-federal programs. Also funds grants for consumer-controlled, community-based, cross-disability, nonresidential, private nonprofit agencies that are designed and operated within a local community by individuals with disabilities and provide an array of independent living services, such as community planning and decision making; school-based peer counseling, transition services, role modeling, and skills training. Manages other grants, contracts or cooperative agreements to provide training and technical assistance with respect to planning, developing, conducting, administering, and evaluating centers for independent living. Ensure compliance with the Rehabilitation Act, which establishes a set of standards and assurances that centers for independent living must meet and requires development and publication of indicators of minimum compliance with the standards.

In addition, participates in the development and dissemination of policy guidance, regulations, and program guidance related to Independent Living Programs. In collaboration with the Center for Policy and Evaluation, develops program performance measures, which are used to evaluate and monitor grantees. Provides program development services, develops and initiates guidelines, policy issuances and actions with team participation by other components of ACL, HHS and other government agencies to fulfill the purpose and goals of Title VII of the Rehabilitation Act, as amended. Also carries out activities under Title III of the PHSA that promote the health and well-being of people living with paralysis and limb loss. Supports their families and caregivers by providing comprehensive information and referral services that assist individuals to remain at home and in the community.

D. Center for Integrated Programs (BD):

BD.00 Mission

BD.10 Organization

BD.20 Functions

BD.00 Mission. The Center for Integrated Programs (CIP) serves as the locus within ACL for the administration of programs and initiatives that serve both older adults and persons with disabilities, including consumer access and protection programs. Also manages programs and initiatives that promote the use of self-directed and person-centered service models and advance the development of health and long-term care services and support systems that are responsive to the needs and preferences of older adults, persons with disabilities, caregivers, and families. The CIP carries out programs authorized under Titles II and IV of the OAA, Title XXIX of the PHSA, section 119 of the MIPPA, section 4360 of the OBRA of 1990, and section 4 of the AT Act that focus on helping states make their health care and long-term service and support systems more person-centered, improve access to health care and assistive technology services, and promote the values of self-determination, full participation in community, integration and independence. CIP also implements initiatives at the national, state and local level to strengthen the capacity of ACL's network of state and community-based organizations to play a meaningful role in the transformation of our nation's health and long-term service and support systems.

BD.10 Organization. The Center for Integrated Programs is headed by a Deputy Administrator, who reports directly to the ACL Administrator. The CIP includes the following components:

Office of the Deputy Administrator for Integrated Programs (BDA)

Office of Healthcare Information and Counseling (BDB)

Office of Integrated Care Innovations (BDC)

Office of Consumer Access and Self-Determination (BDD)

BD.20 Functions.

1. Office of the Deputy Administrator for Integrated Programs (BDA). The Office of the Deputy Administrator for Integrated Programs supports the ACL Administrator and the Principal Deputy Administrator in advancing programmatic and systemic changes to make state health and long-term services and supports systems more person-centered and responsive to the needs and preferences of older Americans, people with disabilities, their families, and caregivers. Works with other ACL components, federal partners and key external stakeholder groups to engage the multiple state agencies involved in long-term services and supports in developing high performing, consumer-oriented, and responsive systems of care for all populations.

Provides leadership and strategic direction to guide the administration of ACL programs that assist consumers in understanding their health care and long-term services and supports options, improve access to services including assistive technologies, and prevent fraud and abuse. Consults with, provides technical assistance to, and supports the education of states and local community service providers in the development of plans, goals, and system development activities. Supports the coordination of programs within HHS and with federal, state, community and private-sector partners.

Works closely with AoA, AoD, and other ACL components to facilitate the coordination across ACL of multiple consumer protection and family support programs and various systems change and network capacity initiatives to fully optimize the potential synergies of these investments across ACL. Uses data and learnings from the programs administered by CIP to inform the work of other ACL components and ACL's policy priorities and provides guidance to the Regional Support Centers to ensure clear and consistent direction to the states on relevant program implementation issues.

2. Office of Healthcare Information and Counseling (BDB). The Office of Healthcare Information and Counseling oversees the operation and administration of the State Health Insurance Assistance Program, authorized under the section 4360 of the OBRA of 1990, and the Senior Medicare Patrol Program, authorized under Title IV of the OAA, that help Medicare and Medicaid beneficiaries as well as coming-of-agers navigate the complexities of health and long-term care systems and educate them on how to prevent fraud, waste, and abuse. The office also manages related activities funded under section 119 of the MIPPA that focus on outreach to help beneficiaries understand and apply for their Medicare benefits including the Low Income Subsidy program (LIS), Medicare Savings Program (MSP), and Medicare Prescription Drug Coverage (Part D).

Coordinates, implements, monitors, and promotes efforts to provide consumer information and education designed to increase access to, and detect, prevent and report error, fraud and abuse in, the Medicare and Medicaid programs. Works with the ACL Regional Support Centers to provide in-depth expertise, information, leadership and technical assistance to assist the State Health Insurance Assistance Program and Senior Medicare Patrol networks, and serves as a reliable clearinghouse of information for older persons, people with disabilities, and their families and caregivers.

Develops funding opportunities and monitors grants to ensure all necessary activities are completed. Manages the full spectrum of contract requirements including identifying contractual needs, developing statements of work and necessary planning documents, and ensuring that contractors are completing assigned tasks. Ensures that grantees and their volunteers have the necessary information and training to carry out program functions. Develops and refines the performance management systems and provides specialized guidance and technical assistance to help grantees improve their performance. Coordinates with the Centers for Medicare & Medicaid Services and other national partnerships to advance program objectives.

3. Office of Integrated Care Innovations (BDC). The Office of Integrated Care Innovations oversees a variety of initiatives to ensure that the interests and needs of older adults and people with disabilities, as well as the state and local organizations that serve these populations, are adequately reflected in the transformations occurring in our nation's health and long-term services and support systems as those systems shift toward the use of managed care, Health Information Technology (IT), and other models and approaches to better integrate the delivery of health and long-term services and supports as well as to make those systems more person-centered. These initiatives involve partnerships with other federal agencies and external stakeholders at the national, state, and local level and the management and execution of technical assistance activities, including the identification and dissemination of best practices and program models.

Leads ACL's Business Acumen work to help community-based organizations that serve older adults and persons with disabilities to build their business capacity and align their service capabilities in order to work effectively with integrated healthcare entities (e.g., accountable care organizations, health plans, managed care organizations, hospitals, health systems, etc.) to provide community-based long-term services and supports and/or evidence-based preventive health programs and services. Works with other ACL components to coordinate the various business acumen and related activities across ACL, and oversees the provision of the business acumen technical assistance that is delivered through a variety of methods and techniques to state level and community-based aging and disability agencies and organizations. Develops partnerships with external stakeholders at the national, state and local level in both the public and private sectors, including private foundations, to enhance and complement ACL's work in this area.

Works with the HHS Office of the National Coordinator for Health Information Technology, CMS, and other internal and external stakeholders on Health IT initiatives that have a potential impact on older adults and persons with disabilities and the state and local agencies and organizations that serve these populations to ensure that the needs and interests of these populations and organizations are reflected in the Health IT initiatives that are shaping the future of our nation's health and long-term services and support systems.

Administers, in partnership with the Centers for Medicare and Medicaid Services, the Duals Demonstration Ombudsman Technical Assistance Program which supports grantees serving beneficiaries of state demonstrations to integrate care for Medicare-Medicaid enrollees associated with the CMS Financial Alignment Initiative. Ensures that grantees and their volunteers have the necessary information and training to carry out program functions. Coordinates with CMS and the state grantees in developing and refining performance management systems and provides specialized guidance and technical assistance to help grantees improve their performance. Analyzes program reports, including consumer feedback and complaints, and makes recommendations to CMS for improving the Ombudsman Program and the Financial Alignment Initiative.

OICI works with CPE and other ACL components to track policy and program trends and emerging issues related to integrated care to inform ACL's ongoing program and policy development work as the transformations in health and long-term services and supports continue to evolve.

4. Office of Consumer Access and Self-Determination (BDD). The Office of Consumer Access and Self-Determination (OCASD) plans and directs the implementation of programs designed to enhance consumer access to long-term services and supports, including integrated systems of services and person-centered programs and systems at the state and local level that support community living. Supports state and community efforts to improve the provision of assistive technology for individuals with disabilities of all ages through comprehensive, statewide programs that are consumer responsive. Serves as the focal point for the administration of the Lifespan Respite Care Program authorized under Title XXIX of the PHSA, Aging and Disability Resource Center program authorized under Title II of the OAA, the Veterans-Directed Home and Community-Based Services program, the Assistive Technology state programs authorized under section 4 of the AT Act, and other activities as deemed appropriate.

Provides leadership and a central strategic focus for ACL's efforts to work with states and communities to develop single entry point/no wrong door systems of access to long-term services and supports for seniors, persons with disabilities, and their families and caregivers, in coordination with CMS and other Federal agencies. Promotes initiatives to expand access to services and the development of more responsive service systems, including person-centered planning and self-directed service models. Implements partnerships with external stakeholder organizations to enhance access to integrated systems of services that support both older Americans and persons of all ages with disabilities. Coordinates with the Department of Veterans Affairs on the development and implementation of their long term services and support programs, including the Veteran-Directed Home and Community-Based Services program and caregiver support programs. Provides technical assistance and support services to programs funded under the AT Act to make assistive technology devices and services more available and accessible to individuals with disabilities and their families. Works with NIDILRR and other ACL components to facilitate and accelerate the translation of relevant research findings into practice nationwide. Supports the development and maintenance of a database of technical assistance resources, best practices and model programs for use by federal, state and local agencies and organizations involved in advancing system changes that make long-term services and support systems more person-centered and more responsive to the needs and preferences of older adults and persons with disabilities.

Develops funding opportunities and monitors grants to ensure all necessary activities are completed. Manages the full spectrum of contract requirements including identifying contractual needs, developing statements of work and necessary planning documents, and ensuring that contractors are completing assigned tasks. Ensures that grantees have the necessary information and training to carry out program functions. Develops and refines performance management systems and provides specialized guidance and technical assistance to help grantees improve their performance.

E. Center for Management and Budget (BE):

BE.00 Mission

BE.10 Organization

BE.20 Functions

BE.00 Mission. The Center for Management and Budget advises the Administrator on the budget, financial, grants, information resources, procurement, administrative and human resources management activities of ACL.

BE.10 Organization. The Center for Management and Budget is headed by a Deputy Administrator, who reports directly to the Administrator. The Center for Management and Budget includes the following components:

Office of the Deputy Administrator for Management and Budget (BEA)

Office of Budget and Finance (BEB)

Office of Administration and Personnel (BEC)

Office of Grants Management (BED)

Office of Information Resources Management (BEE)

BE.20 Functions.

1. Office of the Deputy Administrator for Management and Budget (BEA). The Office of the Deputy Administrator for Management and Budget directs and coordinates all administrative and resource management activities for ACL. The Deputy Administrator for Management and Budget serves as the Executive Officer and Chief Financial Officer and is the principal advisor and counselor to the ACL Administrator on all aspects of the internal administration of ACL.

Serves as the ACL liaison with the Office of the Assistant Secretary for Administration (ASA), the Office of the Assistant Secretary for Financial Resources (ASFR), the Office of the General Counsel (OGC), the Office of Inspector General (OIG), and the Office of Management and Budget (OMB) for all budget and administrative management issues. Develops, administers, and coordinates financial, operational, and budgetary policies, processes, and controls necessary to administer ACL programs and financial resources; directs the processes that support the administration of discretionary and mandatory grants activities; oversees the utilization of information resources, information technology systems and telecommunications; provides leadership for human capital development; and coordinates ACL's internal control activities.

Coordinates with other components to carry out reviews of program activities and management practices required under the Chief Financial Officers Act, the Federal Managers Financial Integrity Act, the Improper Payments Information Act, the Federal Information Security Management Act, and other legislation. Monitors legislation related to administrative management and provides analysis of the impact on ACL programs and resources. Conducts annual reviews and assessments of internal controls required under the Federal Managers Financial Integrity Act and ensures compliance with the Government Accountability Office (GAO) and OMB standards. Plans, organizes and conducts studies of organizational structures, functional statements, job structures, staffing patterns, and management and administrative information systems; and identifies and resolves problems of organization and administrative management. Prepares and maintains organizational and functional statements and delegations and designations of authority for ACL.

2. Office of Budget and Finance (BEB). The Office of Budget and Finance supports the Deputy Administrator for Management and Budget in fulfilling ACL's Chief Financial Officer responsibilities. The Director serves as the Deputy Chief Financial Officer, Budget Officer, and Senior Travel Official and oversees and coordinates ACL's budget formulation, budget execution, and financial management activities. Serves as the primary liaison with the Program Support Center's Division of Financial Management Services, which provides accounting, audit, and financial management services to ACL.

In coordination with the program offices, formulates and presents budget estimates; executes apportionment documents; and plans, directs, and coordinates financial and budgetary programs of ACL. Provides guidance to program offices in preparing budgets, justifications, and other supporting budgetary materials. Solicits, obtains and consolidates information and data from other offices, and prepares budget documents on behalf of the Administrator for presentation to the department, OMB, and Congress.

Analyzes the budget as approved by Congress and apportioned by OMB, obtains input from program offices and recommends for the ACL Administrator's approval a financial plan for its execution. Makes allowances to ACL offices within the guidelines of the approved financial plan. Develops and maintains an overall system of budgetary controls to ensure observance of established ceilings on both program—including all mandatory and discretionary grant accounts—and salaries and expense funds; maintains administrative control of funds against allotments and allowances; certifies funds availability for all accounts; and coordinates the management of interagency agreement activities. Prepares requests for apportionment of appropriated funds; and prepares spending plans and status-of-funds reports for the ACL Administrator.

Develops financial operating procedures and manuals; coordinates financial audits; and provides analysis on financial issues. Ensures that internal controls are in place for administrative and programmatic activities that provide reasonable assurance of the effectiveness and efficiency of operations and compliance with applicable laws and regulations. Serves as the liaison with the Office of the Secretary and OMB on all budgetary and financial matters.

Coordinates all travel management activities. Provides technical assistance and oversight on the use of government travel systems; manages employee participation in the Travel Charge Card program, and coordinates the provision of Travel Management Center services.

3. Office of Administration and Personnel (BEC). The Office of Administration and Personnel (OAP) provides support to ACL in the areas of human capital development, personnel, facilities, acquisitions, and other administrative services. The OAP Director serves as the Chief Human Capital Officer and provides leadership for the strategic planning and operational management of human capital resources. OAP serves as the primary liaison to the Program Support Center's Division of Acquisition Management Services, which provides procurement services to ACL; and the Washington Human Resources Center, which provides personnel support services.

Develops and implements human capital strategies and strategic workforce plans; directs the development and creation of strategies to attract diverse talent and develop a highly skilled workforce; and provides leadership in the development of plans for achieving short- and long-range human capital goals. Provides leadership and guidance to meet the human resource management needs and coordinates internal and external resources to provide staff with personnel services including position management, performance management, employee recognition, staffing, recruitment, employee and labor relations, employee assistance, payroll liaison, staff development and training, and special hiring and placement programs.

Provides oversight and direction to meet the administrative needs of ACL components. Prepares, coordinates and disseminates information, policy and procedural guidance on human resource and administrative management issues on an agency-wide basis. Serves as liaison with the Program Support Center's Division of Real Property Management Services and the General Services Administration (GSA) to plan, develop and coordinate space and facilities services. Serves as the lead for coordination and liaison with departmental, GSA, Federal Protective Service, and other federal agencies for planning and executing the agency's environmental health, safety and physical security programs. Provides coordination and direction for continuity-of-operations activities.

Assists other ACL components in securing contractor assistance by advising on appropriate acquisition vehicles, developing statements of work and independent cost estimates, and managing the technical aspects of contracts. Coordinates with the Office of Information Resources Management to develop and implement procurement strategies for information technology support services and review all information technology acquisition documentation for compliance with applicable laws and regulations. Monitors the use of credit cards for small purchases and establishes and manages contracts and/or blanket purchase agreements for administrative support and facilities management services.

4. Office of Grants Management (BED). The Office of Grants Management (OGM) serves as ACL's focal point for the management, leadership and administration of grants, and cooperative agreements. The OGM Director serves as the Chief Grants Management Officer and provides national policy oversight and development for grants management and administration matters. The office ensures that all grant awards conform to applicable statutory, regulatory, and administrative policy requirements, both before and following award. Maintains liaison and coordination with appropriate ACL and HHS organizations to ensure consistency between discretionary and mandatory grant award activities, including the Program Support Center's Division of Payment Management Services, which provides payment system services for grants.

Ensures that the administrative, business and financial management aspects of grants administration are carried out and grantee performance is monitored. Performs cost analysis/budget analysis for all discretionary grant award documents and negotiates grant budgets, executing all awards. Advises management and program officials in developing, implementing and evaluating program plans, strategies, regulations, announcements, guidelines and procedures. Only the Office of Grants Management has the authority to obligate the government to the expenditure of funds for grants and cooperative agreements. Serves as liaison with other departmental offices for grants policy and administration.

Issues grant awards pursuant to requirements established in authorizing legislation and makes adjustments to previously issued mandatory grant awards. In coordination with other ACL subcomponents, reviews and assesses grant award procedures; directs and/or coordinates management initiatives to improve grant programs in financial areas; develops proposals for improving the efficiency in awarding grants and coordinating financial operations among grant programs; establishes priorities and develops procedures for grantee financial monitoring; and reviews fiscal activities at the field level for all grant programs.

For grant activities, develops financial management standards and provides guidance on and interpretation of applicable federal regulations. Based on grants management policies and procedures approved by the department, reprograms grant funds as required under authoring legislation. Following consultation with ACL staff with grant administration responsibilities, and with the approval of the ACL Administrator, develops instructions and procedures for the administration of the business aspects of all grants.

Provides training, technical assistance, overall guidance, monitoring and assistance to ACL staff in all areas of administrative and financial management of grants. Has primary responsibility for developing grants management policy issuances, and ensuring consistent policy interpretation within ACL concerning grants management. Serves as the liaison to the General Accounting Office and the HHS Office of the Inspector General on grant matters. Assists before the HHS Appeals Board at grant hearings in response to disallowances and other financial claims. Responds to departmental and OIG audit reviews, ensuring proper analysis and resolution of audit findings by Regional Support Centers for final action by the Administrator. Coordinates receipt and processing of all grants and related materials.

5. Office of Information Resources Management (BEE). The Office of Information Resources Management (OIRM) oversees and coordinates the provision of information technology services for ACL. The OIRM Director serves as the Chief Information Officer and Privacy Officer and prepares, coordinates and disseminates information, policies, standards, guidelines, and procedures on information technology management issues. OIRM serves as the primary liaison to the HHS Office of Information Technology Infrastructure Operations, which provides for the management, maintenance and operation of ACL's information technology systems infrastructure, including the LAN, personal computers, software, hosting, and support services.

Manages the development of ACL custom applications and systems; in close collaboration with the Office of External Affairs, manages ACL Web sites; oversees training and technical assistance for all systems, hardware and software; and coordinates the preparation of manuals and policy issuances required to meet the instructional and informational needs of users of the systems. Directs and coordinates ACL's systems security and privacy responsibilities, including protection, security and integrity of data; and is responsible for establishing and maintaining a secure Internet and intranet presence. Coordinates mandated OMB approvals required for data collection activities under the Paperwork Reduction Act of 1980, as amended. Represents ACL on the department's Chief Information Officer's Council and other departmental information technology policy and planning boards, teams, and workgroups.

In coordination with the Office of Administration and Personnel, develops and implements procurement strategies for information technology support services. Reviews all information technology acquisition documentation for compliance with applicable laws and regulations and defines the specifications for procurement of all hardware and software. Identifies opportunities to share information technology services through intergovernmental, interdepartmental and interagency agreements.

Serves as liaison with the Office of the Secretary, GSA, and outside vendors to plan, develop and coordinate guidelines and activities for telecommunications services. Provides telecommunications planning and management, including procurement, installation, and maintenance of telecommunications equipment and services such as telephones, cellular phone service, cable TV service, and audio and video conferencing equipment and services.

F. Center for Policy and Evaluation (BF):

BF.00 Mission

BF.10 Organization

BF.20 Functions

BF.00 Mission. The Center for Policy and Evaluation (CPE) advises and supports the ACL Administrator and the Principal Deputy Administrator in developing effective federal policies to address the needs of older individuals and individuals with disabilities. The CPE collects and analyzes data on populations and services, develops strategic goals and objectives, evaluates the effectiveness of programs, and plans and coordinates the development of policies designed to overcome barriers that prevent older Americans and persons with disabilities from fully participating and contributing in an inclusive, integrated community life.

BF.10 Organization. The Center for Policy and Evaluation is headed by a Director, who reports directly to the Administrator. The Center for Policy and Evaluation includes the following components:

Office of the Director for Policy and Evaluation (BFA)

Office of Policy Analysis and Development (BFB)

Office of Performance and Evaluation (BFC)

BF.20 Functions.

1. Office of the Director for Policy and Evaluation (BFA). The Office of the Director for Policy and Evaluation advises the Administrator and the Principal Deputy Administrator on matters relating to implementation and coordination of policies, regulations, and special initiatives within the department and with other federal agencies focused on disability and aging. Serves as a focal point within ACL and the department for the analysis of, and development of recommendations related to, disability and aging issues, including policies, regulations, and special initiatives. Supports the coordination of policies within HHS and with federal, state, community and private sector partners.

Leads the agency's strategic planning, policy analysis, and program evaluation functions, including the formulation of short- and long-term strategies for advancing ACL policy and program priorities. Coordinates the development and implementation of the agency's strategic plan that establishes long and short-range goals, objectives, strategies and action plans for advancing the agency's policy and program agenda. Reviews and coordinates all policy and program development documents, regulations and activities to ensure consistency with ACL's strategic plan; and adjusts goals and strategies as appropriate. Coordinates the identification and analysis of emerging policy issues and trends and appropriate federal responses. Formulates an agency-wide policy and program development strategy consistent with the priorities established by the Administrator and the Principal Deputy Administrator.

Plans and directs the evaluation of ACL programs designed to provide planning, coordination and services to older Americans and people with disabilities. Coordinates work of CPE with the work of National Institute on Disability, Independent Living and Rehabilitation Research (NIDILRR). The Director serves as the Performance Improvement Officer and is the primary liaison with the Office of the Assistant Secretary for Planning and Evaluation, the Office of the Assistant Secretary for Financial Resources, and the Office of Management and Budget for program performance and evaluation activities.

2. Office of Policy Analysis and Development (BFB). The Office of Policy Analysis and Development analyzes trends in demographics, service needs, public policies and program development, and translates those trends into new policies and initiatives in long-term services and supports and health care that assist people with disabilities and older individuals to remain in their own homes and communities.

Directs intergovernmental activities as they relate to the agency's policy and program development agenda, and develops and maintains effective relationships with other governmental departments and agencies. Plans, negotiates, facilitates and updates memoranda of understanding with other departments and agencies to promote agreements and cooperative relationships. Maintains information on, and pursues collaborative opportunities with, other federal agencies, non-profit organizations and private corporations that have the potential to contribute to the agency's policy and program development priorities.

Provides technical, program and policy development input on legislative activities and the annual budget. Participates in departmental and inter-departmental activities that concern health and long-term care; reviews and comments on departmental regulations and policies regarding health programs, institutional and non-institutional long-term care services, and programs and services designed to enhance community living.

Conducts short-term policy research, policy reviews and environmental scans, and carries out periodic reviews of needs and resources in the fields of aging and disability, and undertakes qualitative and quantitative analyses to develop policy options and recommendations for the Administrator and the Principal Deputy Administrator. Develops policy reports based on the needs and circumstances of older people, their family members and the aging population. Develops and coordinates initiatives with other federal agencies, national aging organizations, national disability organizations, and universities to fill gaps in information in the field of aging and disability.

3. Office of Performance and Evaluation (BFC). The Office of Performance and Evaluation (OPE), in collaboration with the respective ACL program offices, implements, oversees and manages ACL's program performance responsibilities, data collection systems, and program evaluation activities. Develops plans and priorities for evaluation of ACL service delivery programs, with subject matter input from appropriate units. Manages contracts for mandated evaluation projects and performs intramural evaluation studies. Prepares reports of the results of service delivery program and impact evaluations conducted by and for ACL, with technical input from other ACL units. Provides technical guidance on evaluation activities conducted as part of ACL's discretionary grants for service delivery programs.

Implements the requirements of the Government Performance and Results Act of 1993 (GPRA) and the GPRA Modernization Act of 2010. Interprets ACL goals, priorities, and strategies for consistency with ACL long-range GPRA goals and strategies, and adjusts GPRA goals and strategies accordingly. Provides guidance and technical assistance to ACL organizational units in developing operational plans, particularly in developing measurable objectives and indicators reflecting program and organizational performance. Prepares annual GPRA plans and reports and coordinates with the Office of Budget and Finance on the development of the ACL performance budget.

Coordinates ACL activities related to the collection, analysis, and dissemination of national and program data on older individuals and individuals with disabilities. Develops and manages data requirements; designs the criteria for collecting, analyzing and disseminating program performance data; and prepares the data for reporting to Congress and the public. Designs, implements and provides guidance and technical assistance to funding recipients on data collection and analysis. Works with the Office of Information Resources Management to coordinate mandated Office of Management and Budget approvals required under the Paperwork Reduction Act of 1980, as amended.

Compiles, publishes, and disseminates information on demographic data and data from other federal agencies on the health, social and economic status of older persons and persons with disabilities. Performs routine and special statistical analyses of data for ACL offices, other federal and non-federal organizations, and the general public.

G. National Institute on Disability, Independent Living, and Rehabilitation Research (BG):

BG.00 Mission

BG.10 Organization

BG.20 Functions

BG.00 Mission. The National Institute on Disability, Independent Living and Rehabilitation Research (NIDILRR) administers research programs authorized under sections 202 and 204 of the Rehabilitation Act of 1973,

NIDILRR supports the generation of new knowledge and promotes the effective use of this knowledge to (1) improve the abilities of individuals with disabilities to participate in community activities of their choice and (2) enhance society's capacity to provide opportunities and accommodations for these individuals. NIDILRR fulfills its mission through research, development, and dissemination and related activities designed to contribute to community living and participation, employment, and health and function of individuals of all ages with all types and degrees of disability, including low-incidence disability.

BG.10 Organization. NIDILRR is headed by a Director, who reports directly to the Administrator, and serves as a member of the Administrator's senior leadership team. NIDILRR includes the following components:

Office of the Director of Disability, Independent Living, and Rehabilitation Research (BGA)

Disability, Independent Living, and Rehabilitation Research Advisory Council (BGA1)

Office of Research Sciences (BGB)

Office of Research Evaluation and Administration (BGC)

BG.20 Functions.

1. Office of the Director of Disability, Independent Living, and Rehabilitation Research (BGA). The Office of the Director of Disability, Independent Living and Rehabilitation Research (ODDILRR) provides executive leadership and management strategies for all components of NIDILRR. The Office of the Director, which includes a Deputy Director, manages all internal and external activities of the NIDILRR, including the research, dissemination, and public information programs, research evaluation, and provides direction and guidance to NIDILLR's scientific peer review. ODDILRR prepares and issues an annual report and coordinates with the Office of External Affairs and other agency components to ensure that the results of research are disseminated to, and utilized by service providers, people with disabilities and their families, and the general public.

Responsible for the coordination and management of research and research capacity building programs. Promotes the widespread dissemination of research results and other new knowledge both nationally and internationally to individuals with disabilities, families, service providers, researchers, and others through appropriate and accessible media, training, and technical assistance. Sponsors research that can be used to promote the use of appropriate assistive technology and the development of coordinated systems of technology services. Provides general staff support for the Disability, Independent Living, and Rehabilitation Research Advisory Council. Coordinates all meetings, provides advice and assistance, and prepares and issues reports or recommendations as appropriate. Chairs and supports the Interagency Committee on Disability Research (ICDR), authorized by section 203 of the Rehabilitation Act, and promotes the coordination of disability independent living, and research throughout the federal Government. The ICDR is responsible for identifying, assessing, and seeking to coordinate and promote cooperation among all federal program activities, projects, and plans with respect to the conduct of research related to rehabilitation of individuals with disabilities; facilitating the compilation of information about the status of disability, independent living and rehabilitation research sponsored by federal agencies. Coordinates its activities with other federal agencies and participates in joint-funding of rehabilitation research and related activities, in collaboration with the ICDR. Prepares and submits to Congress a long-range plan for rehabilitation research and provides necessary data and information required by the National Council on Disability. The ICDR is also responsible for preparing a comprehensive government-wide strategic plan for disability, independent living and rehabilitation research and ensuring accountability for achievement of measurable goals, objectives and timetables.

2. Office of Research Sciences (BGB). The Office of Research Sciences is responsible for national and international programs of research, training, and knowledge translation. Develops and manages a comprehensive program of grants, cooperative agreements, and contracts that address all of NIDILRR's research, capacity building, and knowledge translation activities. Sponsors research on, and development of programs and interventions involving technological systems, techniques and devices to overcome environmental barriers, and enable persons with disabilities to maximize community living and participation, employment, and their health and functional abilities. Responsible for providing research-based knowledge to industry to facilitate development, marketing, and distribution of aids and devices that can be used by people with disabilities. Determines criteria and standards and sets priorities for all NIDILRR research, training, and evaluation activities in the areas of community living and participation, employment, and health and function.

Plans, develops, implements, and manages a comprehensive national and international program of research, training, and knowledge translation in specific program areas. Identifies trends and needs and recommends research and development priorities to the leadership of NIDILRR. Manages a comprehensive scientific peer review of all grant applications and conducts pre-award site visits, as required by statute. Recommends new and continuation awards, as well as award terminations. Performs program oversight and monitoring of the progress of grants and contracts. Collaborates with ACL senior leaders, the Center for Policy and Evaluation, and the Center for Management and Budget in developing and publishing regulatory documents, including annual announcements of priorities and grant application packages.

Enhances the public understanding of the barriers to and facilitators of optimal outcomes for individuals with disabilities through the dissemination of research findings and other data. Other data include statistical data on disability status and outcomes, as evidenced by the annual publication of the Annual Compendium of Disability Statistics, distributed widely each year. Coordinates with the Office of External Affairs as well as ACL subcomponents to plan, develop, and administer knowledge translation, research utilization, public information, public education, and publications which address NIDILRR research activities and findings; and manages a comprehensive program to disseminate NIDILRR research findings through accessible media to a range of target audiences. Provides research-based information from grantees to the Interagency Committee on Disability Research, the National Council on Disability, and other agencies and private organizations serving individuals with disabilities. Sponsors studies to determine innovative techniques and systems for the dissemination and utilization of rehabilitation research findings.

3. Office of Research Evaluation and Administration (BGC). The Office of Research Evaluation and Administration (OREA) supports the administration of NIDILRR's grants and contracts portfolio. OREA also coordinates NIDILRR's program evaluation activities and collaborates with ORS in program planning and priority setting.

Coordinates with the Office of Research Sciences staff in the preparation of all contract packages, development of requirements and performance work statements. Conducts routine contract management activities to include completion of administrative and fiscal tasks required throughout the contract lifecycle. Maintains and monitors annual grant forecasts and schedules, and provides grants administration support for NIDILRR including packaging grant announcements and application kits.

Makes recommendations to the Director/NIDILRR regarding allocation of NIDILRR program funds for current and future budget years. Coordinate and collaborates with Office of Research Sciences program staff in the preparation of the annual spending plan and facilitate the implementation of the plan to ensure compliance with established departmental guidance. Provides administrative support in the monitoring of grants and cooperative agreements, and facilitates the administrative execution of interagency agreements.

Administers NIDILRR evaluation activities to improve the effectiveness of NIDILRR's research activities. This includes collaboration with NIDILRR's senior management to define and facilitate the conduct of analyses of program and budget data as well as focused, special program evaluation activities. In its evaluation function, it coordinates with CPE to prepare planning and evaluation documents required by ACL, HHS, OMB and Congress.

II. Delegations of Authority: All delegations and re-delegations of authority made to officials and employees of affected organizational components will continue in them or their successors pending further re-delegations.

III. Funds, Personnel and Equipment: Transfer of organizations and functions affected by this reorganization shall be accompanied in each instance by direct and support funds, positions, personnel, records, equipment, supplies and other resources.

Dated: May 27, 2015.
Sylvia M. Burwell,
Secretary.

[FR Doc. 2015-13351 Filed 6-1-15; 8:45 am]

BILLING CODE 4150-04-P